SMALL BUSINESS ADMINISTRATION

[Disaster Declaration # 10228 and # 10229]

New Hampshire Disaster # NH-00001

AGENCY: Small Business Administration.

ACTION: Notice.

SUMMARY: This is a Notice of the Presidential declaration of a major disaster for the State of New Hampshire (FEMA-1610-DR), dated October 26, 2005.

Incident: Severe Storms and Flooding.

Incident Period: October 7, 2005 through October 18, 2005.

Effective Date: October 26, 2005.

Physical Loan Application Deadline Date: December 27, 2005.

EIDL Loan Application Deadline Date: July 26, 2006.

ADDRESSES: Submit completed loan applications to: U.S. Small Business Administration, National Processing and Disbursement Center, 14925 Kingsport Road, Fort Worth, TX 76155.

FOR FURTHER INFORMATION CONTACT: A. Escobar, Office of Disaster Assistance, U.S. Small Business Administration, 409 3rd Street, Suite 6050, Washington, DC 20416.

SUPPLEMENTARY INFORMATION: Notice is hereby given that as a result of the President's major disaster declaration on October 26, 2005, applications for disaster loans may be filed at the address listed above or other locally announced locations.

The following areas have been determined to be adversely affected by the disaster:

Primary Counties:

Cheshire, Grafton, Hillsborough, Merrimack, and Sullivan.

Contiguous Counties:

New Hampshire: Belknap, Carroll, Coos, Rockingham, and Strafford.

Massachusetts: Essex, Franklin, Middlesex, and Worcester.

Vermont: Caledonia, Essex, Orange, Windham, and Windsor.

The Interest Rates are:

| Percent
Homeowners with Credit Available Elsewhere | 5.375
Homeowners without Credit Available Elsewhere | 2.687
Businesses with Credit Available Elsewhere | 6.557
Businesses and Small Agricultural Cooperatives without Credit Available Elsewhere | 4.000
Other (Including Non-Profit Organizations) with Credit Available Elsewhere | 4.750
Businesses and Non-Profit Organizations without Credit Available Elsewhere | 4.000

The number assigned to this disaster for physical damage is 102286 and for economic injury is 102290.

(Catalog of Federal Domestic Assistance Numbers 59002 and 59008)
Herbert L. Mitchell,
Associate Administrator for Disaster Assistance.

[FR Doc. 05-21959 Filed 11-2-05; 8:45 am]

BILLING CODE 8025-01-P